DEPARTMENT OF COMMERCE

[Docket No. ITA-2022-0001]

RIN 0605-XC047

Request for Comments on the Indo-Pacific Economic Framework

AGENCY: Department of Commerce.

ACTION: Request for comments.

SUMMARY: On October 27, 2021, President Joseph R. Biden announced that the United States would explore the development of an Indo-Pacific Economic Framework to deepen economic relations in the Indo-Pacific region and coordinate approaches to addressing global economic challenges. The Secretary of Commerce and the United States Trade Representative will co-chair the U.S. team leading the negotiations of the framework. The United States Trade Representative will lead the Framework's pillar on fair and resilient trade, and the Department of Commerce will lead the Framework's pillars on: (1) Supply chain resilience; (2) infrastructure, clean energy, and decarbonization; and (3) tax and anti-corruption. Accordingly, the Department of Commerce is seeking public comments on key areas of interest, including: Digital and emerging technologies; supply chain resilience; infrastructure, decarbonization, and clean energy; and tax and anti-corruption. This notice requests comments and information from the public to assist the Secretary of Commerce in developing the U.S. position in these negotiations. To provide comments on the fair and resilient trade pillar on elements unrelated to the digital and emerging technologies, please see the relevant USTR request for comment.

DATES: Comments and supporting documents must be submitted on or before April 11, 2022.

ADDRESSES: Address all written comments in response to this notice to “Indo-Pacific Economic Framework” and file through the Federal eRulemaking Portal: https://www.regulations.gov. To submit comments via https://www.regulations.gov, enter docket number ITA-2022-0001 on the home page and click “search.” The site will provide a search results page listing all documents associated with this docket. Once you find this notice, click into it and click on the “Comment” icon, complete the required fields, and enter or attach your comments. (For further information on using https://www.regulations.gov, please consult the resources provided on the website by clicking on “How to Use This Site.”)

Instructions: Comments sent by any other method, to any other address or individual, or received after the end of the comment period, may not be considered by the Department of Commerce. Commenters should include which of the nine topics they are addressing or indicate “other issues of consideration.” Commentors that self-identify as a small business (generally defined by the U.S. Small Business Administration as firms with fewer than 500 employees) or organizations representing small business members should indicate this.

FOR FURTHER INFORMATION CONTACT: Please direct general questions or questions concerning written comments to Eric Holloway, Deputy Director for the Office of East Asia, Oceania, and APEC, International Trade Administration, Department of Commerce at Indo-Pacific.Economic.Framework@trade.gov or at 202-482-3152.

SUPPLEMENTARY INFORMATION:

Background: On October 27, 2021, President Joseph R. Biden announced that the United States would explore the development of an Indo-Pacific Economic Framework (IPEF). The United States is seeking to include multiple pillars covering key areas of interest within the IPEF, including digital and emerging technologies; supply chain resilience; infrastructure, clean energy, and decarbonization; and tax and anti-corruption. Launching negotiations on these topics under the IPEF is an important step towards strengthening U.S. economic engagement in the Indo-Pacific region and presents a novel approach to promoting durable, broad-based economic growth.

Requirements for Written Content: The Department of Commerce is developing negotiating objectives and positions to shape cooperation with potential IPEF partners which could include various types of commitments, cooperative actions, and other measures. To that end, via this general solicitation, the Department of Commerce invites interested parties to comment on issues that the Department of Commerce should address in the negotiations, including whether those issues have particular relevance for any of the economies in the Indo-Pacific region. The Department of Commerce seeks broad input from all interested stakeholders—including industry, researchers, academia, labor, and civil society. To the extent commenters choose to respond to particular matters related to the negotiations, they may comment on any of the following:

1. General negotiating objectives for the IPEF.

2. Digital and emerging technologies-related issues.

3. Supply chain resilience-related issues.

4. Infrastructure-related issues.

5. Clean energy-related issues.

6. Decarbonization-related issues.

7. Tax-related issues.

8. Anti-corruption-related issues.

9. Issues of particular relevance to small and medium-sized businesses that should be addressed in the negotiations.

10. Other issues for consideration.

The Department of Commerce requests that small businesses (generally defined by the U.S. Small Business Administration as firms with fewer than 500 employees) or organizations representing small business members that submit comments to self-identify as such so that we may be aware of issues of particular interest to small businesses.

Request for Written Comments: The https://www.regulations.gov website allows users to provide comments by filling in a “Type Comment” field, or by attaching a document using an “Upload File” field. Commerce prefers comments be provided in an attached document. Commerce prefers submissions in Microsoft Word (.doc files) or Adobe Acrobat (.pdf files). If the submission is in an application format other than Microsoft Word or Adobe Acrobat, please indicate the name of the application in the “Type Comment” field. Please do not attach separate cover letters to electronic submissions; rather, include any information that might appear in a cover letter within the comments. Similarly, to the extent possible, please include any exhibits, annexes, or other attachments in the same file, so that the submission consists of one file instead of multiple files. Comments (both public comments and non-confidential versions of comments containing business confidential information) will be placed in the docket and open to public inspection. Comments may be viewed on https://www.regulations.gov by entering docket number ITA-2022-0001 in the search field on the home page. All filers should name their files using the name of the person or entity submitting the comments. Anonymous comments also will be accepted. Communications from agencies of the United States Government will not be made available for public inspection.

Anyone submitting business confidential information should clearly identify the business confidential portion at the time of submission, file a statement justifying nondisclosure and referring to the specific legal authority claimed, and provide a non-confidential version of the submission. The non-confidential version of the submission will be placed in the public file on https://www.regulations.gov. For comments submitted electronically containing business confidential information, the file name of the business confidential version should begin with the characters “BC”. Any page containing business confidential information must be clearly marked “BUSINESS CONFIDENTIAL” on the top of that page. The non-confidential version must be clearly marked “PUBLIC”. The file name of the non-confidential version should begin with the character “P”. The “BC” and “P” should be followed by the name of the person or entity submitting the comments or rebuttal comments.

Dated: March 8, 2022.
Diane Farrell,
Deputy Under Secretary for International Trade, Department of Commerce.

[FR Doc. 2022-05206 Filed 3-10-22; 8:45 am]

BILLING CODE 3510-FP-P